DEPARTMENT OF VETERANS AFFAIRS

Geriatric and Gerontology Advisory Committee, Notice of Meeting

The Department of Veterans Affairs (VA) gives notice under the Federal Advisory Committee Act, FACA 5 U.S.C. ch. 10, that the Geriatric and Gerontology Advisory Committee will meet on April 10-11, 2024. The April meeting sessions will begin and end as follows:

Date | Time | Open session
April 10, 2024 | 8:30 a.m.-4:30 p.m. Eastern Daylight Time (EDT) | Yes.
April 11, 2024 | 8:30 a.m.-12:00 p.m. EDT | Yes.

This meeting is open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

Time will be allocated for receiving public comments on April 10, 2024, at 3:30 p.m. Individuals wishing to present public comments should contact Marianne Shaughnessy, Ph.D., AGPCNP-BC, GS-C, FAAN., Designated Federal Officer, Veterans Health Administration by email at Marianne.Shaughnessy@va.gov or at 202-407-6798 no later than close of business on March 22, 2024. Only those members of the public (first 6 public comment registrants) who have confirmed registrations to present public comment will be allowed to speak at this meeting. In the interest of time, each speaker will be held to 5-minute time limit. Individuals who are unable to attend but would like to have comment included in the meeting record may send them to Marianne.Shaughnessy@va.gov by close of business on March 29, 2024. All individuals wishing to present public comments must provide a written summary of the comment for inclusion in the meeting record that includes name and organization/association of persons they represent.

Any member of the public wishing to attend virtually or seeking additional information should email Marianne.Shaughnessy@va.gov or call 202-407-6798, no later than close of business on March 27, 2024, to provide their name, professional affiliation, email address and phone number. The WebEx link for April 10, 2024: https://veteransaffairs.webex.com/veteransaffairs/j.php?MTID=m73491837bf953288b898b684d8556b10, meeting number (access code): 2762 065 0269, meeting password: wXUqC8mk@22. On April 11, 2024:, the WebEx link is: https://veteransaffairs.webex.com/veteransaffairs/j.php?MTID=m01aa0a5e4dafba6407c8cba0ccd7c930, meeting number (access code): 2761 220 7733, meeting password: 4pkWPp9hP3@ or to join by phone either day dial: 1-404-397-1596.

Dated: March 1, 2024.
LaTonya L. Small,
Federal Advisory Committee Management Officer.

[FR Doc. 2024-04706 Filed 3-5-24; 8:45 am]

BILLING CODE 8320-01-P